DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the following forms: Miner's Claim for Benefits Under the Black Lung Benefits Act (CM-911), Employment History (CM-911a); and Miner Medical Reimbursement Form (CM-915).

DATES: Written comments must be submitted to the office listed in the addressee section below within February 19, 2002.

ADDRESSES: Ms. Patricia A. Forkel, U.S. Department of Labor, 200 Constitution Ave., NW., Room S-3201, Washington, DC 20210, telephone (202) 693-0339 (this is not a toll-free number), fax (202) 693-1451, EMail pforkel@fenix2.dol-esa.gov.

SUPPLEMENTARY INFORMATION:

I. Background

The Black Lung Benefits Act of 1977, as amended, 30 U.S.C. 901 et. seq., provides for the payment of benefits to coal miners who are totally disabled by black lung disease, and to certain of their survivors. The CM-911 is the application form for benefits. The CM-911a, which is completed along with the CM-911, renders a complete history of employment and is used to establish employment criteria for benefit eligibility. Under the program, miners are eligible for reimbursement of out-of-pocket medical expenses for treatment and for medical expenses incurred in the development of a claim. The CM-915 is used to request such reimbursement.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information collection in order to carry out its responsibility to determine eligibility for black lung benefits.

Type of Review: Extension.

Agency: Employment Standards Administration.

Titles: Miner's Claim for Benefits Under the Black Lung Benefits Act; Employment History; Miner Medical Reimbursement Form.

OMB Number: 1215-0052.

Agency Numbers: CM-911, CM-911a, CM-915.

Affected Public: Individuals or households; Businesses or other for-profit.

Frequency: On occasion.

Total Respondents/Responses: 20,200.

Estimated Total Burden Hours: 9,116.

Form Hours | Respondents/Responses | Time per response | Burden hours
CM-911 | 4,800 | 45 min | 3,600
CM-911a | 5,900 | 40 min | 3,933
CM-915 | 9,500 | 10 min | 1,583

Total Burden Cost (capital/startup): $0.

Total Burden Cost (operating/maintenance): $4,171.

Comments submitted in response to this notice will be summarized and/or included in the request for Office of Management and Budget approval of the information collection request; they will also become a matter of public record.

Dated: December 14, 2001.
Margaret J. Sherrill,
Chief, Branch of Management Review and Internal Control, Division of Financial Management, Office of Management, Administration and Planning, Employment Standards Administration.

[FR Doc. 01-31432 Filed 12-20-01; 8:45 am]

BILLING CODE 4510-CK-P